DEPARTMENT OF DEFENSE

Office of the Secretary

Defense Science Board

ACTION: Notice of meeting.

SUMMARY: The Defense Science Board (DSB) Task Force on Defensive Information Operations (formerly known as the Task Force on Information Warfare—Defense) will meet in closed session on July 12-14, 2000, at the Strategic Analysis Conference Center, 3601 Wilson Boulevard, Suite 600, Arlington, VA 22201.

The mission of the Defense Science Board is to advise the Secretary of Defense and the Under Secretary of Defense for Acquisition, Technology & Logistics on scientific and technical matters as they affect the perceived needs of the Department of Defense. At this meeting, the Task Force will review the progress made since the 1996 Defense Science Board report on Information Warfare—Defense and determine the adequacy of the Department's process in providing information assurance to carry out Joint Vision 2010 in the face of information warfare attacks.

In accordance with section 10(d) of the Federal Advisory Committee Act, Pub. L. No. 92-463, as amended (5 U.S.C. App. II, (1994)), it has been determined that this Defense Science Board meetings, concern matters listed in 5 U.S.C. 552b(c)(1) (1994), and that accordingly these meetings will be closed to the public.

Dated: June 9, 2000.
L.M. Bynum,
Alternate OSD Federal Register Liaison Officer, Department of Defense.

[FR Doc. 00-15077 Filed 6-14-00; 8:45 am]

BILLING CODE 5001-10—M